SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: July 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Water Source Approval—Issued Under 18 CFR § 806.22(f):

1. Pennsylvania General Energy Company, L.L.C.; Pad ID: COP Tract 726 Pad E; ABR-202307001; Plunketts Creek Township, Lycoming County, Pa.; Consumptive Use of Up to 4.0000 mgd; Approval Date: July 17, 2023.

2. Coterra Energy Inc.; Pad ID: StarzecE P1; ABR-201306009.R2; Bridgewater Township, Susquehanna County, Pa.; Consumptive Use of Up to 5.0000 mgd; Approval Date: July 23, 2023.

3. Coterra Energy Inc.; Pad ID: VandermarkR P1; ABR-201107029.R2; Dimock Township, Susquehanna County, Pa.; Consumptive Use of Up to 5.0000 mgd; Approval Date: July 23, 2023.

4. Repsol Oil & Gas USA, LLC; Pad ID: Lynn 719; ABR-201207012.R2; Liberty Township, Tioga County, Pa.; Consumptive Use of Up to 6.0000 mgd; Approval Date: July 23, 2023.

5. Seneca Resources Company, LLC; Pad ID: DCNR 100 PAD B; ABR-201107035.R2; Cogan House and McIntyre Townships, Lycoming County, Pa.; Consumptive Use of Up to 4.0000 mgd; Approval Date: July 23, 2023.

6. Seneca Resources Company, LLC; Pad ID: DCNR Tract 007 Pad D; ABR-201807001.R1; Delmar Township, Tioga County, Pa.; Consumptive Use of Up to 4.0000 mgd; Approval Date: July 23, 2023.

7. SWN Production Company, LLC; Pad ID: Heckman Camp (Pad F); ABR-201307001.R2; Herrick Township, Bradford County, Pa.; Consumptive Use of Up to 4.9990 mgd; Approval Date: July 23, 2023.

8. SWN Production Company, LLC; Pad ID: King N (Pad NW1); ABR-201307004.R2; Franklin Township, Susquehanna County, Pa.; Consumptive Use of Up to 4.9990 mgd; Approval Date: July 23, 2023.

9. SWN Production Company, LLC; Pad ID: TNT LTD PART WEST; ABR-201307002.R2; New Milford Township, Susquehanna County, Pa.; Consumptive Use of Up to 4.9990 mgd; Approval Date: July 23, 2023.

10. SWN Production Company, LLC; Pad ID: Whipple (Pad 14); ABR-201307003.R2; Herrick Township, Bradford County, Pa.; Consumptive Use of Up to 4.9990 mgd; Approval Date: July 23, 2023.

11. Alliance Petroleum Corporation; Pad ID: Sterling Run Club 4; ABR-201706003.R1; Burnside Township, Centre County, Pa.; Consumptive Use of Up to 3.0000 mgd; Approval Date: July 27, 2023.

12. Alliance Petroleum Corporation; Pad ID: Sterling Run Club 5; ABR-201706004.R1; Burnside Township, Centre County, Pa.; Consumptive Use of Up to 3.0000 mgd; Approval Date: July 27, 2023.

13. Blackhill Energy LLC; Pad ID: NICHOLS 2H Pad; ABR-201107020.R2; Smithfield Township, Bradford County, Pa.; Consumptive Use of Up to 4.9900 mgd; Approval Date: July 27, 2023.

14. Chesapeake Appalachia, L.L.C.; Pad ID: Brown Homestead; ABR-201207005.R2; Wyalusing Township, Bradford County, Pa.; Consumptive Use of Up to 7.5000 mgd; Approval Date: July 27, 2023.

15. Chesapeake Appalachia, L.L.C.; Pad ID: CDJ; ABR-201207018.R2; Wilmot Township, Bradford County, Pa.; Consumptive Use of Up to 7.5000 mgd; Approval Date: July 27, 2023.

16. Chesapeake Appalachia, L.L.C.; Pad ID: Cherrymills; ABR-201207019.R2; Cherry Township, Sullivan County, Pa.; Consumptive Use of Up to 7.5000 mgd; Approval Date: July 27, 2023.

17. EQT ARO LLC; Pad ID: MAC Pad B; ABR-201805002.R1; Cascade Township, Lycoming County, Pa.; Consumptive Use of Up to 4.0000 mgd; Approval Date: July 27, 2023.

18. Repsol Oil & Gas USA, LLC; Pad ID: ALDERSON (05 269); ABR-201807002.R1; Pike Township, Bradford County, Pa.; Consumptive Use of Up to 6.0000 mgd; Approval Date: July 27, 2023.

19. Repsol Oil & Gas USA, LLC; Pad ID: BROADLEAF HOLDINGS (01 115); ABR-201807003.R1; Columbia, Springfield, and Troy Townships, Bradford County, Pa.; Consumptive Use of Up to 6.0000 mgd; Approval Date: July 27, 2023.

20. Repsol Oil & Gas USA, LLC; Pad ID: MOUNTAIN RUN HUNTING CLUB (02 153); ABR-201107050.R2; Union Township, Tioga County, Pa.; Consumptive Use of Up to 6.0000 mgd; Approval Date: July 27, 2023.

21. Seneca Resources Company, LLC; Pad ID: DCNR 595 Pad G; ABR-201107033.R2; Blossburg Borough and Blossburg Township, Tioga County, Pa.; Consumptive Use of Up to 4.0000 mgd; Approval Date: July 27, 2023.

22. Seneca Resources Company, LLC; Pad ID: Rich Valley Pad E; ABR-201107032.R2; Shippen Township, Cameron County, Pa.; Consumptive Use of Up to 4.0000 mgd; Approval Date: July 27, 2023.

23. Seneca Resources Company, LLC; Pad ID: Taft 851 ALT; ABR-202307002; Middlebury Township, Tioga County, Pa.; Consumptive Use of Up to 4.0000 mgd; Approval Date: July 27, 2023.

24. Blackhill Energy LLC; Pad ID: CRANE Pad; ABR-201107023.R2; Smithfield Township, Bradford County, Pa.; Consumptive Use of Up to 4.9900 mgd; Approval Date: July 28, 2023.

25. Blackhill Energy LLC; Pad ID: HOLCOMBE 1H Pad; ABR-201107022.R2; Smithfield Township, Bradford County, Pa.; Consumptive Use of Up to 4.9900 mgd; Approval Date: July 28, 2023.

Authority: Public Law 91-575, 84 Stat. 1509 et seq., 18 CFR parts § 806 and 808.

Dated: August 11, 2023.
Jason E. Oyler,
General Counsel and Secretary to the Commission.

[FR Doc. 2023-17591 Filed 8-15-23; 8:45 am]

BILLING CODE 7040-01-P